DEPARTMENT OF THE INTERIOR

National Park Service

30-Day Notice of Intention To Request Clearance of Collection of Information; Opportunity for Public Comment

AGENCY: National Park Service, Interior.

ACTION: Notice and request for comments.

SUMMARY: Under the provisions of the Paperwork Reduction Act of 1995 and 5 CFR Part 1320, Reporting and Record-keeping Requirements, the National Park Service (NPS) invites public comments on an extension of a currently approved collection of information (OMB #1024-0144).

DATES: Public comments on this Information Collection Request (ICR) will be accepted on or before July 20, 2009.

ADDRESSES: You may submit comments directly to the Desk Officer for the Department of the Interior (OMB #1024-0144), Office of Information and Regulatory Affairs, Office of Management and Budget (OMB), by fax at 202/395-5806, or by electronic mail at oira_docket@omb.eop.gov. Please also mail or hand carry a copy of your comments to Sherry Hutt, Manager, National NAGPRA Program, National Park Service, 1201 Eye Street NW., Washington, DC 20005 or via fax at 202/371-5197.

FOR FURTHER INFORMATION CONTACT: Sherry Hutt, Manager, National NAGPRA Program, National Park Service, 1201 Eye St. NW., Washington, DC 20005, or via fax at 202/371-5197. You are entitled to a copy of the entire Information Collection Request (ICR) package free-of-charge. You may access this ICR at http://www.reginfo.gov/public/.

Comments Received on the 60-Day Federal Register Notice

The NPS published a 60-day notice to solicit public comments on this ICR in the Federal Register on March 9, 2009 (74 FR 10066). The comment period closed on May 8, 2009. No comments were received on this notice.

SUPPLEMENTARY INFORMATION: OMB Control Number: 1024-0144.

Title: Native American Graves Protection and Repatriation Regulations 43 CFR 10.

Form(s): None.

Type of request: Extension of a currently approved collection of information.

Description of need: The Native American Graves Protection and Repatriation Act (NAGPRA) requires museums to compile certain information (summaries, inventories, and notices) regarding Native American cultural items in their possession or control and provide that information to lineal descendants, culturally affiliated Indian tribes and Native Hawaiian organizations, and the National Park Service (acting on behalf of the Secretary of the Interior).

Affected public: Museums defined in NAGPRA as any institution that receives Federal funds and has possession of or control over Native American cultural items.

Obligation to respond: It is mandatory to comply with the requirements of the law.

Frequency of response: Information collection requirements are done on an as-needed basis, with summaries due within six months of either receipt of a new collection or acknowledgment of a new Indian tribe, and inventories due within two years of either receipt of a new collection or acknowledgment of a new Indian tribe. An institution receiving Federal funds for the first time must provide a summary within three years and an inventory within five years.

Estimated total annual responses: 150 total responses (Responses for summaries or inventories at 46, notices at 104).

Estimated average completion time per response: Public reporting burden for this collection of information is expected to average 100 hours for the exchange of summary/inventory information between a museum or Federal agency and an Indian tribe or Native Hawaiian organization and six hours per response for the notification to the Secretary, including time for reviewing instructions, searching existing data sources, gathering and maintaining the data needed, and completing and reviewing the collected information.

Estimated annual reporting burden: 5,224 hours.

Comments are invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that OMB will be able to do so.

Dated: June 15, 2009.
Cartina Miller,
NPS Information Collection Clearance Officer.

[FR Doc. E9-14319 Filed 6-17-09; 8:45 am]

BILLING CODE 4312-50-P